DEPARTMENT OF HOMELAND SECURITY

U.S. Citizenship and Immigration Services

[OMB Control Number 1615-NEW]

Agency Information Collection Activities; New Collection: Generic Clearance for the Collection of Certain Information on Immigration Forms

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The purpose of this notice is to allow an additional 30 days for public comments.

DATES: Comments are encouraged and will be accepted until October 3, 2025.

ADDRESSES: Written comments and/or suggestions regarding the item(s) contained in this notice, especially regarding the estimated public burden and associated response time, must be submitted via the Federal eRulemaking Portal website at http://www.regulations.gov under e-Docket ID number USCIS-2025-0002. All submissions received must include the OMB Control Number 1615-NEW in the body of the letter, the agency name and Docket ID USCIS-2025-0002.

FOR FURTHER INFORMATION CONTACT: USCIS, Office of Policy and Strategy, Regulatory Coordination Division, John R. Pfirrmann-Powell, Acting Deputy Chief, telephone number (240) 721-3000 (This is not a toll-free number; comments are not accepted via telephone message.). Please note contact information provided here is solely for questions regarding this notice. It is not for individual case status inquiries. Applicants seeking information about the status of their individual cases can check Case Status Online, available at the USCIS website at http://www.uscis.gov, or call the USCIS Contact Center at 800-375-5283 (TTY 800-767-1833).

SUPPLEMENTARY INFORMATION:

Comments

The information collection notice was previously published in the Federal Register on March 3, 2025, at 90 FR 11054, allowing for a 60-day public comment period. USCIS received 135 comments in connection with the 60-day notice.

You may access the information collection instrument with instructions, or additional information by visiting the Federal eRulemaking Portal site at: http://www.regulations.gov and enter USCIS-2025-0002 in the search box. Comments must be submitted in English, or an English translation must be provided. The comments submitted to USCIS via this method are visible to the Office of Management and Budget and comply with the requirements of 5 CFR 1320.12(c). All submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Background

E.O. 14161, “Protecting the United States from Foreign Terrorists and Other National Security and Public Safety Threats,” directs implementation of uniform vetting standards and necessitates the collection of all information necessary for a rigorous vetting and screening of all grounds of inadmissibility or bases for the denial of immigration-related benefits. See 90 FR 8451 (Jan. 20, 2025). Execution of the E.O. requires U.S. Citizenship and Immigration Services (USCIS) to collect standard data on immigration forms and/or information collection systems. This data will be collected from certain populations of individuals on applications for immigration-related benefits and is necessary for the enhanced identity verification, vetting, and national security screening and inspection conducted by USCIS and required under the E.O.

This collection of information is necessary to comply with section 2 of the E.O. to establish screening and vetting standards and procedures to enable USCIS to assess an alien's eligibility to receive an immigration-related benefit from USCIS. This data collection is also used to validate an applicant's identity and to help determine whether such grant of a benefit poses a security or public-safety threat to the United States.

USCIS will collect biographic information on immigration information collection instruments and systems. USCIS will update its forms and systems to collect additional information from individuals who seek admissibility or other benefits when that information is not already collected.

New Information To Be Collected

U.S. Government departments and agencies involved in screening and vetting, to include USCIS, identified 24 data elements that would constitute a new baseline threshold of data to be collected for identity verification and national security vetting. For USCIS, these data elements will be added to certain immigration benefit request forms where the information is not already collected. The 24 core data elements are as follows:

The following seven (7) data elements are biographic identifiers used to help USCIS confirm both an individual's identity as it relates to the submitted application and to other records. These biographic identifiers are also used by USCIS and screening partners to help confirm or disprove an association between an applicant and information of interest and the strength of that association in the context of the underlying information.

1. Name

2. Alias(es)

3. Sex

4. Date of Birth

5. City/State/Province and Country of Birth

6. Country/Countries of Citizenship

7. Country of Residence

The following data elements are a unique numeric identifier issued to a single individual that USCIS uses to help confirm both a person's identity and for DHS records. They are also used by USCIS and screening partners to help find, confirm, or disprove an association between an applicant, the strength of that association, or to provide other information about the individual that may be important in the adjudication. Applicants will be asked to provide current passport/travel/national identity document information, country of issuance, issue date, and expiration date, as applicable. Other USCIS forms request more information on passports or travel documents to include expired documents and passports containing a U.S. visa. The questions related to passport information are requested depending on benefit eligibility and national security needs. If additional information is needed for this data element, USCIS will revise the applicable OMB approved information collection under the form's control number and not add the additional questions using this generic approval.

8. Passport/Travel Document or National ID

1. Country of issuance

2. Issue date

3. Expiration date

The following 16 data elements are used by USCIS (1) to provide official correspondence to an applicant, and/or (2) as secondary data elements to help confirm a subject's identity as it relates to the submitted application and to other records, and/or (3) to, internally and with screening partners, help confirm or disprove an association between an applicant and information of interest, and the strength of that association in the context of the underlying information.

9. Telephone Number(s) used in the last five (5) years, including dates used

10. Email address(es) used in the last ten (10) years

11. U.S. Address: Residence or Destination, city, street

12. U.S. Address: Residence or Destination, state/province

13. Foreign Address city, street

14. Foreign Address state/province

15. Point of Contact Name (U.S. or other)

16. Point of Contact Telephone Number

17. Point of Contact Email Address

18. Family Member Names (parent, spouse, siblings, and children)

19. Family Member Telephone Numbers (parent, spouse, siblings, and children) used in the last five (5) years

20. Family Member Date(s) of Birth

21. Family Member Place(s) of Birth

22. Family Member Residence(s)

23. Business Telephone Number(s) used in the last five (5) years

24. Business Email Address(es) used in the last ten (10) years

Programs Affected, OMB Control Numbers

• OMB No. 1615-0052—Form N-400, Application for Naturalization

• OMB No. 1615-0013—Form I-131, Application for Travel Document

• OMB No. 1615-0017—Form I-192, Application for Advance Permission to Enter as a Nonimmigrant

• OMB No. 1615-0023—Form I-485, Application to Register Permanent Residence or Adjust Status

• OMB No. 1615-0067—Form I-589, Application for Asylum and for Withholding of Removal

• OMB No. 1615-0068—Form I-590, Registration for Classification as Refugee

• OMB No. 1615-0037—Form I-730, Refugee/Asylee Relative Petition

• OMB No. 1615-0038 -Form I-751, Petition to Remove Conditions on Residence

• OMB No. 1615-0045—Form I-829, Petition by Entrepreneur to Remove Conditions on Permanent Resident Status

Applicant information is collected to maintain a record of persons applying for specific immigration benefits, and to help determine whether these applicants are eligible to receive the benefits for which they are applying. The information provided through USCIS forms is also analyzed—along with other information that the Secretary of Homeland Security determines is necessary, including information about other persons included on the USCIS forms—against various security and law enforcement databases to identify those applicants who may pose a security or public-safety risk to the United States.

Overview of This Information Collection

(1) Type of Information Collection Request: New Collection; Revision of a Currently Approved Collection.

(2) Title of the Form/Collection: Generic Clearance for the Collection of Certain Information on Immigration Forms.

(3) Agency form number, if any, and the applicable component of the DHS sponsoring the collection: GC-2025-0002; USCIS.

(4) Affected public who will be asked or required to respond, as well as a brief abstract: Primary: Individuals or households. E.O. 14161, “Protecting the United States from Foreign Terrorists and Other National Security and Public Safety Threats,” directs implementation of uniform vetting standards and necessitates collection of all information necessary for a rigorous vetting and screening of all grounds of inadmissibility or bases for the denial of immigration-related benefits. Execution of the E.O. requires U.S. Citizenship and Immigration Services (USCIS) to collect standard data on immigration forms and/or information collection systems. This data will be collected from certain populations of individuals on applications for immigration-related benefits and is necessary for the enhanced identity verification, vetting and national security screening, and inspection conducted by USCIS and required under the E.O.

(5) An estimate of the total number of respondents and the amount of time estimated for an average respondent to respond:

• The estimated total number of annual respondents for the information collection N-400 is 909,700 and the estimated hour burden per response is 3.77 hours.

• The estimated total number of annual respondents for the information collection I-131 is 1,006,844 and the estimated hour burden per response is 3.77 hours.

• The estimated total number of annual respondents for the information collection I-192 is 68,050 and the estimated hour burden per response is 3.78 hours.

• The estimated total number of annual respondents for the information collection I-485 is 1,060,585 and the estimated hour burden per response is 3.73 hours.

• The estimated total number of annual respondents for the information collection I-589 is 203,379 and the estimated hour burden per response is 3.93 hours.

• The estimated total number of annual respondents for the information collection I-590 is 53,100 and the estimated hour burden per response is 3.77 hours.

• The estimated total number of annual respondents for the information collection I-730 is 13,000 and the estimated hour burden per response is 4.27 hours.

• The estimated total number of annual respondents for the information collection I-751 is 153,000 and the estimated hour burden per response is 3.77 hours.

• The estimated total number of annual respondents for the information collection I-829 is 1,010 and the estimated hour burden per response is 3.80 hours.

(6) An estimate of the total public burden (in hours) associated with the collection: The estimated total annual hour burden associated with this collection is 13,074,206 hours.

(7) An estimate of the total public burden (in cost) associated with the collection: The estimated total annual cost burden associated with this collection of information is $0. No additional costs to the public are anticipated due to this action. Any costs to the respondents associated with the specific form filed are captured in those approved collections.

Dated: August 8, 2025.
John R. Pfirrmann-Powell,
Acting Deputy Chief, Regulatory Coordination Division, Office of Policy and Strategy, U.S. Citizenship and Immigration Services, Department of Homeland Security.

[FR Doc. 2025-16824 Filed 9-2-25; 8:45 am]

BILLING CODE 9111-97-P